DEPARTMENT OF HOMELAND SECURITY

Coast Guard

46 CFR Part 67

[USCG-2001-8825]

RIN 1625-AA28 (Formerly RIN 2115-AG08)

Vessel Documentation: Lease Financing for Vessels Engaged in the Coastwise Trade

AGENCY: Coast Guard, DHS.

ACTION: Final rule; announcement of effective date.

SUMMARY: In the final rule with this same title published February 4, 2004, we noted that the Office of Management and Budget (OMB) had not approved a collection-of-information associated with the amendments by §§ 67.147 and 67.179 to the collection-of-information requirements for vessel owners and charterers applying to engage in the coastwise trade under the lease financing provisions of 46 U.S.C. 12106(e). OMB has since approved that collection-of-information and the portions of the rule with these requirements will become effective September 3, 2004.

DATES: 46 CFR 67.147 and 46 CFR 67.179, as published February 4, 2004 (69 FR 5390), are effective September 3, 2004.

FOR FURTHER INFORMATION CONTACT: If you have questions on this document, call Patricia Williams, Deputy Director, National Vessel Documentation Center, Coast Guard, telephone 304-271-2506. If you have questions on viewing the docket (USCG-2001-8825), call Andrea M. Jenkins, Program Manager, Docket Operations, telephone 202-366-0271.

SUPPLEMENTARY INFORMATION: Section 67.147 of title 46 of the Code of Federal Regulations (CFR) requires a vessel owner who seeks a coastwise endorsement to submit a certified application and in some cases supporting documentation. Section 67.179 of title 46 of the CFR requires a barge owner qualified to engage in coastwise trade under the lease-financing provisions of 46 U.S.C. 12106(e) to submit a certified application for the coastwise operation of a barge under a demise charter. Submitting applications is a collection-of-information under OMB control no. 1625-0016 (Formerly 2115-0054). The final rule that contained the provisions for applications was published in the Federal Register on February 4, 2004 (69 FR 5398), and is available electronically through the docket (USCG-2001-8825) Web site at http://www.dms.dot.gov. became effective on February 4, 2004, with the exception of § 67.147 and 67.179.

As required by 44 U.S.C. 3507(d), we submitted a copy of the final rule to OMB for its review. On July 30, 2004, after reviewing the rule, OMB approved the collection-of-information required by this final rule under OMB control no. 1625-0027.

Dated: August 27, 2004.
Joseph J. Angelo,
Director of Standards, Marine Safety, Security, and Environmental Protection, U.S. Coast Guard.

[FR Doc. 04-20117 Filed 9-2-04; 8:45 am]

BILLING CODE 4910-15-P